DEPARTMENT OF ENERGY

Federal Energy Regulatory Commission

[Docket No. CP00-4-001]

Florida Gas Transmission Company; Notice of Compliance Filing

October 15, 2002.

Take notice that on September 23, 2002, Florida Gas Transmission Company (FGT), tendered for filing as part of its FERC Gas Tariff, Third Revised Volume No. 1 (Tariff) Original Sheet No. 8B.02 to become effective October 23, 2002.

FGT states that on October 12, 1999, in Docket No. CP00-4-000, FGT filed for permission and approval for facilities to provide service to the Alabama Electric Cooperative (AEC) for a planned electric generation plant in Escambia Count, Alabama. As discussed in the October 12, 1999 filing, transportation service for AEC was to be provided pursuant to a negotiated rate agreement under FGT's Rate Schedule FTS-WD. FGT included a pro forma tariff sheet in the October 12, 1999 filing identifying the AEC agreement as a negotiated rate and FGT stated that upon approval of the requested authorizations, FGT would file a paginated numbered tariff sheet. On March 27, 2000, the Commission issued an order granting the requested authorizations, subject to conditions, to construct facilities to provide service to AEC. Construction of these facilities was completed, and service commenced to AEC on December 1, 2001. FGT states it inadvertently failed to file the paginated numbered tariff sheet as it stated it would in the October 12, 1999 filing. FGT states in the instant filing, it is filing Original Sheet No. 8B.02 to correct this oversight.

FGT states that copies of this instant filing were mailed to all customers served under the rate schedules affected by this filing and the interested state commissions.

Any person desiring to be heard or to protest said filing should file a motion to intervene or a protest with the Federal Energy Regulatory Commission, 888 First Street, NE., Washington, DC 20426, in accordance with the Commission's rules and regulations and Order No. 587 et seq. All such motions or protests should be filed in on or before October 18, 2002. Protests will be considered by the Commission in determining the appropriate action to be taken, but will not serve to make protestants parties to the proceedings. Any person wishing to become a party must file a motion to intervene. Copies of this filing are on file with the Commission and are available for public inspection. This filing is available for review at the Commission in the Public Reference Room or may be viewed on the Commission's Web site at http://www.ferc.gov using the “FERRIS” link. Enter the docket number excluding the last three digits in the docket number field to access the document. For Assistance, call (202) 502-8222 or for TTY, (202) 502-8659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-26800 Filed 10-21-02; 8:45 am]

BILLING CODE 6717-01-P